COMMODITY FUTURES TRADING COMMISSION

Sunshine Act Meeting

Agency Holding the Meeting: Commodity Futures Trading Commission.

Time and Date: 10:00 a.m., Friday, March 29, 2013.

Place: 1155 21st St. NW., Washington, DC, 9th Floor Commission Conference Room.

Status: Closed.

Matters to be Considered: Surveillance and Enforcement Matters. In the event that the times or dates of this or any future meetings change, an announcement of the change, along with the new time and place of the meeting will be posted on the Commission's Web site at http://www.cftc.gov.

Contact Person for More Information: Melissa D. Jurgens, 202-418-5516.

Natise Stowe,
Executive Assistant.

[FR Doc. 2013-04568 Filed 2-22-13; 4:15 pm]

BILLING CODE 6351-01-P